DEPARTMENT OF AGRICULTURE

Agricultural Marketing Service

7 CFR Part 1290

[Docket No. FV06-1290-1 FR-C]

RIN 0581-AC59

Specialty Crop Block Grant Program

AGENCY: Agricultural Marketing Service, USDA.

ACTION: Final rule; correction.

SUMMARY: This document contains corrections to the preamble of the final rule (Docket No. FV-06-1290-1 FR), published Monday, September 11, 2006 (71 FR 53303). These corrections clarify a response to comments concerning how the funds will be transferred to the States and the allocation of grant funds not distributed to a State.

DATES: Effective Date: November 3, 2006.

FOR FURTHER INFORMATION CONTACT: Trista Etzig, Fruit and Vegetable Programs, AMS, USDA, 1400 Independence Avenue, SW., Stop 0243, Washington, DC 20250-0243; Telephone: (202) 690-4942; Fax: (202) 690-0102; or E-mail: trista.etzig@usda.gov.

SUPPLEMENTARY INFORMATION:

Corrections

In the final rule published on September 11, 2006, beginning on page 53304, in the first column, change the sentence beginning with “The AMS will provide the entire” to the following:

“Each time AMS distributes funds to approved applicants it will be by an electronic transfer for the entire approved amount.”

In the final rule published on September 11, 2006, beginning on page 53305, in the third column, add after the sentence ending with “requested for that application year” in the first complete paragraph, the following:

“Funds not distributed will be allocated pro rata to the remaining States who applied during the specified grant application period to be solely expended on projects previously approved in their State plan.”

Dated: October 31, 2006.
Lloyd C. Day,
Administrator, Agricultural Marketing Service.

[FR Doc. E6-18563 Filed 11-2-06; 8:45 am]

BILLING CODE 3410-02-P